DEPARTMENT OF HOUSING AND URBAN DEVELOPMENT

[Docket No. FR-4565-N-15]

Notice of Proposed Information Collection: Comment Request; Lease and Sale of HUD-Acquired Single Family Properties for the Homeless

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: August 8, 2000.

ADDRESSES: Interested persons are invited to submit comments regarding this proposal. Comments should refer to the proposal by name and/or OMB Control Number and should be sent to: Wayne Eddins, Reports Management Officer, Department of Housing and Urban Development, 451 7th Street, SW, L'Enfant Plaza Building, Room 8202, Washington, DC 20410.

FOR FURTHER INFORMATION CONTACT: Joseph McCloskey, Director, Single Family Asset Management Division, Department of Housing and Urban Development, 451 7th Street, SW, Washington, DC 20410, telephone (202) 708-1672 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Lease and Sale of HUD-Acquired Single Family Properties for the Homeless.

OMB Control Number, if applicable: 2502-0412.

Description of the need for the information and proposed use: HUD seeks to assist individuals and families who are homeless by providing them with transitional housing and appropriate supportive services with the goal of helping them move to independent living. This information collection allows HUD to determine whether an applicant qualifies as a homeless provider for the purpose of lease or purchase of a HUD-acquired property. Without the information, the Department would be unable to establish eligibility. Eligible applicants, including State and local governments, may apply to HUD to become approved as homeless providers. Such approval permits the applicant to lease a HUD-owned single family home with an option to purchase, for use in housing the homeless.

Agency Form Numbers, if applicable: Not applicable.

Estimation of the total number of hours needed to prepare the information collection including number of respondents, frequency of response, and hours of response: An estimation of the total numbers of hours needed to prepare the information collection is 600, number of respondents is 300, frequency response is one-time, and the hours of response is 2.

Status of the proposed information collection: Reinstatement without change of a previously approved collection.

Authority: Section 3506 of the Paperwork Reduction Act of 1995, 4 U.S.C., Chapter 35, as amended.

Dated: May 30, 2000.
William C. Apgar,
Assistant Secretary for Housing-Federal Housing Commissioner.

[FR Doc. 00-14521 Filed 6-8-00; 8:45 am]

BILLING CODE 4210-27-M